DEPARTMENT OF TRANSPORTATION

Federal Motor Carrier Safety Administration

[FMCSA Docket No. FMCSA-2006-25756]

Commercial Driver's License (CDL) Standards; Volvo Trucks North America, Renewal of Exemption

AGENCY: Federal Motor Carrier Safety Administration (FMCSA), DOT.

ACTION: Notice of renewal of exemptions; request for comments.

SUMMARY: FMCSA renews an exemption from the requirement to hold a commercial driver's license (CDL) sought by Volvo Trucks North America (Volvo) on behalf of five employees. Volvo requested renewal of the CDL exemption for five Swedish engineers employed by the company to enable these individuals to continue test-driving commercial motor vehicles (CMVs) in the United States. All hold valid Swedish CDLs. FMCSA believes that the training program and knowledge and skills testing that drivers must undergo to obtain a Swedish CDL ensure a level of safety equivalent to, or greater than, the level of safety that would be obtained by complying with the U.S. requirement for a CDL.

DATES: Comments must be received on or before June 6, 2011. Effective date of the exemption is April 23, 2011 to April 23, 2013.

ADDRESSES: You may submit comments identified by Federal Docket Management System Number FMCSA-2006-25756 by any of the following methods:

• Federal eRulemaking Portal: Go to http://www.regulations.gov. In the ENTER KEYWORD OR ID box enter FMCSA-2006-25756 and click on the tab labeled SEARCH. On the ensuing page, click on any tab labeled SUBMIT A COMMENT on the extreme right of the page and a page should open that is titled “Submit a Comment.” You may identify yourself under section 1, ENTER INFORMATION, or you may skip section 1 and remain anonymous. You enter your comments in section 2, TYPE COMMENT & UPLOAD FILE. When you are ready to submit your comments, click on the tab labeled SUBMIT. Your comment is then submitted to the docket; and you will receive a tracking number.

• Fax: 1-202-493-2251.

• Mail: Docket Management Facility: U.S. Department of Transportation, 1200 New Jersey Avenue, SE., West Building, Ground Floor, Room W12-140, Washington, DC 20590-0001.

• Hand Delivery: West Building, Ground Floor, Room W12-140, 1200 New Jersey Avenue, SE., Washington, DC, between 9 a.m. and 5 p.m. ET, Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to www.regulations.gov at any time, and in the ENTER KEYWORD OR ID box enter FMCSA-2006-25756 and click on the tab labeled SEARCH.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476) or you may visit www.regulations.gov.

Public Participation: The www.regulations.gov Web site is generally available 24 hours each day, 365 days each year. You can get electronic submission and retrieval help and guidelines under the “help” section of the www.regulations.gov Web site and also at the DOT's http://docketsinfo.dot.gov Web site. If you want us to notify you that we received your comments, please include a self-addressed, stamped envelope or postcard or print the acknowledgement page that appears after submitting comments online.

FOR FURTHER INFORMATION CONTACT: Ms. Christine Hydock, FMCSA Driver and Carrier Operations Division, Office of Bus and Truck Standards and Operations, Telephone: 202-366-4325. E-mail: MCPSD@dot.gov.

SUPPLEMENTARY INFORMATION:

Background

Under 49 U.S.C. 31136(e) and 31315, FMCSA may renew an exemption from the CDL requirements of 49 CFR 383.23 for a maximum 2-year period if it finds “such exemption would likely achieve a level of safety that is equivalent to, or greater than, the level that would be achieved absent such exemption.” The procedures for requesting an exemption (including renewals) are prescribed in 49 CFR part 381.

Volvo Application for Exemption Renewal

Volvo applied for a 2-year renewal of an exemption from 49 CFR 383.23, the CDL requirement for drivers operating CMVs, for Johnny Adolfsson, Goran Alsen, Freddy Blixt, Peter Hofsten, and Lars Svensson. A copy of the request for renewal, dated November 10, 2010, is in the docket identified at the beginning of this notice.

FMCSA initially granted an exemption to seven Swedish engineers and technicians employed by Volvo on May 5, 2009 (74 FR 20778). Detailed information about the qualifications and experience of each of the seven drivers, including the five affected by this notice, was provided by Volvo in its original application, a copy of which is in the docket referenced above. Volvo is seeking a renewal of this exemption because the five drivers are citizens and residents of Sweden, and cannot easily obtain a non-resident CDL, given the small number of States willing to issue such a license. Renewal of the exemption will enable them to operate CMVs in the U.S. and continue to support Volvo's field tests to meet future clean air standards, to test drive prototype vehicles at its test site, and to deliver the vehicles, if necessary. It is estimated that they will drive a combined total of approximately 20,800 miles per year on U.S. roads. The applicants are experienced CMV operators holding valid Swedish-issued CDLs. They have received extensive CMV training, and have satisfied strict regulations in Sweden in order to obtain a CDL. Volvo explained in detail in earlier exemption requests the rigorous training program and knowledge and skills tests that applicants for a Swedish CDL must undergo. Volvo also argued that the Swedish knowledge and skills tests and training program ensure that its drivers operating under the exemption will achieve a level of safety that is equivalent to, or greater than, the level of safety obtained by complying with the U.S. requirement for a CDL.

Method To Ensure an Equivalent or Greater Level of Safety

FMCSA has previously determined that the process for obtaining a Swedish CDL is comparable to, or as effective as, the requirements of Part 383, and adequately assesses the driver's ability to operate CMVs in the U.S. In recent years FMCSA has granted similar Volvo exemption requests, most recently on August 9, 2010 (75 FR 45198).

Granting of Exemption Renewal

FMCSA has evaluated Volvo's application for exemption renewals for Johnny Adolfsson, Goran Alsen, Freddy Blixt, Peter Hofsten, and Lars Svensson and decided to grant them for an additional 2-year extension, i.e. from April 23, 2011 to April 23, 2013. These exemptions are renewed subject to the following terms and conditions: (1) This exemption is valid only when the drivers are acting within the scope of their employment by Volvo; (2) the drivers and Volvo must adhere to drug and alcohol regulations, including testing, as provided by in 49 CFR part 382; (3) the drivers and Volvo must adhere to driver disqualification rules under 49 CFR parts 383 and 391 that apply to all CMV drivers in the United States; (4) the drivers are subject to all other provisions of the Federal Motor Carrier Safety Regulations (FMCSRs) (49 CFR parts 390-397) unless specifically exempted herein; (5) the drivers must keep a copy of the exemption on the vehicle at all times for presentation to a duly authorized Federal, State, or local enforcement official; (6) Volvo must notify FMCSA in writing of any accident, as defined in 49 CFR 390.5, involving an exempted driver; and (7) Volvo must notify FMCSA in writing if an exempted driver is convicted of a disqualifying offense described in sections 383.51 or 391.15 of the FMCSRs.

These exemptions will be valid for 2 years unless revoked earlier by FMCSA. The exemptions will be revoked if: (1) The drivers fail to comply with the terms and conditions of the exemption; (2) the exemption has resulted in a lower level of safety than was maintained before it was granted; or (3) continuation of the exemption would not be consistent with the goals and objectives of 49 U.S.C. 31136(e) and 31315.

Request for Comments

In accordance with 49 U.S.C. 31315(b)(4), FMCSA requests public comment on the renewal of the exemption from the requirements of 49 CFR 383.23 for Johnny Adolfsson, Goran Alsen, Freddy Blixt, Peter Hofsten, and Lars Svensson. The Agency requests that interested parties with specific data concerning these individuals' safety records submit comments by June 6, 2011. FMCSA will review all comments received by this date and determine whether renewal of the exemption is consistent with the requirements of 49 U.S.C. 31136(e) and 31315. As indicated above, the Agency has previously determined that providing an exemption for these Volvo drivers does not compromise the level of safety that would exist if the exemption were not granted. Interested parties or organizations possessing information that would show that any of these individuals are not currently achieving the requisite statutory level of safety should immediately notify FMCSA. The Agency will evaluate any adverse information submitted and, if safety is being compromised or if the continuation of the exemption is not consistent with 49 U.S.C. 31136(e) and 31315(b)(4), FMCSA will take immediate steps to revoke the exemption.

Issued on: April 26, 2011.
Larry W. Minor,
Associate Administrator for Policy and Program Development.

[FR Doc. 2011-11026 Filed 5-4-11; 8:45 am]

BILLING CODE 4910-EX-P